DEPARTMENT OF ENERGY

Federal Energy Regulatory Commission

[Docket No. EC01-70-000, et al.]

Wisvest Connecticut, LLC, et al; Electric Rate and Corporate Regulation Filings

February 21, 2001.

Take notice that the following filings have been made with the Commission:

1. Wisvest Connecticut, LLC and Bridgeport Harbor Power, LLC, New Haven Power, LLC, NRG Connecticut Power Assets LLC

[Docket No. EC01-70-000]

Take notice that on February 16, 2001, Wisvest-Connecticut, LLC (Wisvest), Bridgeport Harbor Power LLC (BHP), New Haven Harbor Power LLC (NHHP), and NRG Connecticut Power Assets LLC (NRG Connecticut) pursuant to section 203 of the Federal Power Act, filed with the Federal Energy Regulatory Commission an application requesting authorization for Wisvest to transfer to NRG Connecticut the 590-MW Bridgeport Harbor Power Station, 466-MW New Haven Harbor Power Station, and associated power sales agreements. At closing, NRG Connecticut would in turn transfer the Bridgeport Harbor Station to BHP and the New Haven Harbor Station to NHHP, but would retain the power sales agreements.

Comment date: April 17, 2001, in accordance with Standard Paragraph E at the end of this notice.

2. Wisconsin Power & Light Company

[Docket No. ER01-843-001]

Take notice that on February 16, 2001, Wisconsin Power & Light Company (WPL), tendered for filing its tariff and service agreements correcting sheet designations filed with the Commission in the above-referenced docket.

WPL indicates that copies of the filing have been provided to WPPI and to the Public Service Commission of Wisconsin.

Comment date: March 9, 2001, in accordance with Standard Paragraph E at the end of this notice.

3. American Electric Power Service Corporation

[Docket No. ER01-1112-001]

Take notice that on February 14, 2001, the American Electric Power Service Corporation (AEPSC), tendered for filing an amendment to the Service Agreements filed on January 30, 2001 in Docket Number ER01-1112-000 to include copies of previously executed and filed Firm Point-to-Point Transmission Service Agreements for American Municipal Power-Ohio, Inc., Cleveland Public Power, Dynegy Power Marketing, Inc., and PECO Energy Power Team. All of these agreements are pursuant to the AEP Companies' Open Access Transmission Service Tariff (OATT) that has been designated as the Operating Companies of the American Electric Power System FERC Electric Tariff Second Revised Volume No. 6.

AEPSC requests waiver of notice to permit the Service Agreements to be made effective for service billed on and after January 1, 2001.

A copy of the filing was served upon the Parties and the state utility regulatory commissions of Arkansas, Indiana, Kentucky, Louisiana, Michigan, Ohio, Oklahoma, Tennessee, Texas, Virginia and West Virginia.

Comment date: March 7, 2001, in accordance with Standard Paragraph E at the end of this notice.

4. Niagara Mohawk Power Corporation

[Docket No. ER01-1241-000]

Take notice that on February 14, 2001, Niagara Mohawk Power Corporation tendered for filing an Interconnection Agreement between Niagara Mohawk Power Corporation and Fortisus Energy Corporation for the Diana Hydro generating facility, dated as of December 14, 2000.

Niagara Mohawk Power Corporation requests an Interconnection Agreement effective date of December 14, 2000. To the extent necessary, Niagara Mohawk requests waiver of the Commission requirement that a rate schedule be filed not less than 60 days or more than 120 days from its effective date.

Comment date: March 7, 2001, in accordance with Standard Paragraph E at the end of this notice.

5. Niagara Mohawk Power Corporation

[Docket No. ER01-1242-000]

Take notice that on February 14, 2001, Niagara Mohawk Power Corporation tendered for filing an Interconnection Agreement between Niagara Mohawk Power Corporation and Fortisus Energy Corporation for the Dolgeville Hydro generating facility, dated as of December 14, 2000.

Niagara Mohawk Power Corporation requests an Interconnection Agreement effective date of December 14, 2000. To the extent necessary, Niagara Mohawk requests waiver of the Commission requirement that a rate schedule be filed not less than 60 days or more than 120 days from its effective date.

Comment date: March 7, 2001, in accordance with Standard Paragraph E at the end of this notice.

6. Ohio Valley Electric Corporation

[Docket No. ER01-1243-000]

Take notice that on February 15, 2001, Ohio Valley Electric Corporation (OVEC), tendered for filing an Interconnection and Operation Agreement, dated February 8, 2001, between Jackson County Power, LLC (JCP) and OVEC.

OVEC proposes an effective date of February 16, 2001 and requests waiver of the Commission's notice requirement to allow the requested effective date.

Copies of this filing were served upon JCP and the Public Utilities Commission of Ohio.

Comment date: March 8, 2001, in accordance with Standard Paragraph E at the end of this notice.

7. Cinergy Services, Inc.

[Docket No. ER01-1244-000]

Take notice that on February 15, 2001, Cinergy Services, Inc. (Provider), tendered for filing a service agreement and a Network Operating Agreement under Cinergy's Open Access Transmission Service Tariff (OATT) entered into between Provider and The New Power Company (Customer).

Provider and Customer are requesting an effective date of January 18, 2001.

Comment date: March 8, 2001, in accordance with Standard Paragraph E at the end of this notice.

8. Puget Sound Energy, Inc.

[Docket No. ER01-1245-000]

Take notice that on February 15, 2001, Puget Sound Energy, Inc., as Transmission Provider, tendered for filing a Service Agreement for Firm Point-To-Point Transmission Service and a Service Agreement for Non-Firm Point-To-Point Transmission Service with Pacific Northwest Generating Cooperative (PNGC), as Transmission Customer.

A copy of the filing was served upon PNGC.

Comment date: March 8, 2001, in accordance with Standard Paragraph E at the end of this notice.

9. Puget Sound Energy, Inc.

[Docket No. ER01-1246-000]

Take notice that on February 15, 2001, Puget Sound Energy, Inc., as Transmission Provider, tendered for filing a Service Agreement for Firm Point-To-Point Transmission Service and a Service Agreement for Non-Firm Point-To-Point Transmission Service with Power Resources Cooperative (PRC) as Transmission Customer.

A copy of the filing was served upon PRC.

Comment date: March 8, 2001, in accordance with Standard Paragraph E at the end of this notice.

10. Entergy Services, Inc.

[Docket No. ER01-1247-000]

Take notice that on February 15, 2001 Entergy Services, Inc. (Entergy Services), on behalf of Entergy Arkansas, Inc., Entergy Gulf States, Inc., Entergy Louisiana, Inc., Entergy Mississippi, Inc., and Entergy New Orleans, Inc. (collectively, the Entergy Operating Companies), tendered for filing a Short-Term Market Rate Sales Agreement between Entergy Services, as agent for the Entergy Operating Companies, and Terrebonne Parish Consolidated Government, as agent for the City of Houma, for the sale of power under Entergy Services' Rate Schedule SP.

Comment date: March 8, 2001, in accordance with Standard Paragraph E at the end of this notice.

11. New York State Electric & Gas Corporation

[Docket No. ER01-1248-000]

Take notice that on February 15, 2001, New York State Electric & Gas Corporation (NYSEG), tendered for filing pursuant to Section 35 of the Federal Energy Regulatory Commission's Regulations, 18 CFR 35, a service agreement (the Service Agreement) under which NYSEG may provide capacity and/or energy to Atlantic City Electric Company (Atlantic) in accordance with NYSEG's FERC Electric Tariff, Original Volume No. 3.

NYSEG has requested waiver of the notice requirements so that the Service Agreement becomes effective as of February 16, 2001.

NYSEG has served copies of the filing upon the New York Service Public Service Commission and Atlantic.

Comment date: March 8, 2001, in accordance with Standard Paragraph E at the end of this notice.

12. PECO Energy Company

[Docket No. ER01-1249-000]

Take notice that on February 15, 2001, PECO Energy Company (PECO), tendered for filing under Section 205 of the Federal Power Act, 16 U.S.C. S 792 et seq., a Service Agreement dated January 13, 2001 with Sithe Power Marketing, L.P. (SITHE) under PECO's FERC Electric Tariff Original Volume No. 1 (Tariff).

PECO requests an effective date of April 16, 2001 for the Agreement.

PECO states that copies of this filing have been supplied to Sithe Power Marketing, L.P. and to the Pennsylvania Public Utility Commission.

Comment date: March 8, 2001, in accordance with Standard Paragraph E at the end of this notice.

13. Indianapolis Power & Light Company

[Docket No. ER01-1250-000]

Take notice that on February 16, 2001, Indianapolis Power & Light Company (IPL), tendered for filing service agreements executed under IPL's Open Access Transmission Tariff and an index of customers.

Comment date: March 9, 2001, in accordance with Standard Paragraph E at the end of this notice.

14. Lake Worth Generation L.L.C.

[Docket No. ER01-1251-000]

Take notice that on February 16, 2001, Lake Worth Generation L.L.C. (Applicant), 245 Winter Street, Suite 300, Watham, MA 02154, tendered for filing with the Federal Energy Regulatory Commission a notice of cancellation of its FERC Electric Tariff, Original Volume No. 1, Original Sheet No. 1—Market Based Rate Tariff.

The tariff will not become effective until service commences and no service agreements have been executed under it. Copies were filed upon the Florida Public Service Commission.

Comment date: March 9, 2001, in accordance with Standard Paragraph E at the end of this notice.

15. Southern Company Services, Inc.

[Docket No. ER01-1252-000]

Take notice that on February 16, 2001, Southern Company Services, Inc. (SCS), acting on behalf of Alabama Power Company, Georgia Power Company, Gulf Power Company, Mississippi Power Company, and Savannah Electric and Power Company (collectively referred to as Southern Company), tendered for filing seven (7) long term firm point-to-point transmission service agreements between Southern Company and Carolina Power and Light Company, Duke Power Company, The Energy Authority, Entergy Services Inc., as agent for the Entergy operating companies, Oglethorpe Power Corporation, Sempra Energy Trading Corp. (Sempra) (for OASIS Request 191679); and Sempra (for OASIS Request 191684); three (3) umbrella agreements for short-term firm point-to-point transmission service between Southern Company and Amerada Hess Corporation (Amerada), DTE Energy Trading, Inc. (DTE), and North Carolina Municipal Power Agency Number 1 (NCMPA); and three (3) umbrella agreements for non-firm point-to-point transmission service between Southern Company and Amerada, DTE, and NCMPA under the Open Access Transmission Tariff of Southern Company (FERC Electric Tariff, Fourth Revised Volume No. 5).

Comment date: March 9, 2001, in accordance with Standard Paragraph E at the end of this notice.

16. Commonwealth Edison Company

[Docket No. ER01-1254-000]

Take notice that on February 16, 2001, Commonwealth Edison Company (ComEd), tendered for filing two Short-Term Firm Transmission Service Agreements and two Non-Firm Transmission Service Agreements with Otter Tail Power Company (Otter Tail) and Exelon Generation Company, LLC (Exelon) under the terms of ComEd's Open Access Transmission Tariff (OATT).

ComEd requests an effective date of January 26, 2001, for the Agreements with Otter Tail and an effective date of January 19, 2001 for the Agreements with Exelon, and accordingly, seeks waiver of the Commission's notice requirements.

Comment date: March 9, 2001, in accordance with Standard Paragraph E at the end of this notice.

17. Maine Public Service Company

[Docket No. ER01-1253-000]

Take notice that on February 16, 2001, Maine Public Service Company (Maine Public) tendered for filing an executed Service Agreement for Network Integration Transmission Service under Maine Public's open access transmission tariff with Houlton Water Company.

Comment date: March 9, 2001, in accordance with Standard Paragraph E at the end of this notice.

18. The Detroit Edison Company

[Docket No. ER01-1255-000]

Take notice that on February 16, 2001, The Detroit Edison Company (Detroit Edison), tendered for filing amended electric supply agreements for wholesale power sales transactions under Detroit Edison's Wholesale Power Sales Tariff (WPS-1), FERC Electric Tariff, Original Vol. No. 4 (the WPS-1 Tariff) between Detroit Edison and the City Croswell, Michigan; Detroit Edison and the Village of Sebewaing, Michigan; and Detroit Edison and Thumb Electric Cooperative.

Comment date: March 9, 2001, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-4812 Filed 2-27-01; 8:45 am]

BILLING CODE 6717-01-P